DEPARTMENT OF THE INTERIOR

National Park Service

[NPS-PWR-PWRO-21467; PPPWOLYMS1—PPMPSPD1Z.YM0000]

Draft Environmental Impact Statement/Mountain Goat Management Plan, Olympic National Park, Clallam, Grays Harbor, Jefferson and Mason County, Washington

AGENCY: National Park Service, Interior.

ACTION: Notice of availability.

SUMMARY: The National Park Service (NPS) announces the availability of a Draft Environmental Impact Statement (DEIS) for a Mountain Goat Management Plan (Plan) at Olympic National Park (Park), Washington. The DEIS evaluates the impacts of a range of alternatives for managing exotic mountain goats in the park.

DATES: All written comments on the DEIS must be postmarked or submitted not later than 60 days following publication of the Environmental Protection Agency's (EPA) Notice of Availability of the DEIS in the Federal Register. After the EPA Notice of Availability is published, the NPS will schedule public meetings to be held during the comment period. Dates, times, and locations of these meetings will be announced in press releases and on the NPS Planning, Environment, and Public Comment Web site for the Plan/DEIS at http://parkplanning.nps.gov/olymgoat.

FOR FURTHER INFORMATION CONTACT: Please contact Christina Miller at (360) 565-3004. Information will be available for public review online at http://parkplanning.nps.gov/olymgoat and in the office of the Superintendent, Olympic National Park, 600 East Park Ave., Port Angeles, WA 98362.

SUPPLEMENTARY INFORMATION: The purpose of the Plan/DEIS is to allow the NPS to reduce or eliminate impacts to park resources from exotic mountain goats, while reducing potential public safety issues associated with the presence of mountain goats in the Park. Management direction is needed to address resource management and human safety issues resulting from the presence of exotic mountain goats in the Park. This Plan/DEIS evaluates the impacts of the no-action alternative (Alternative A) and three action alternatives (Alternatives B, C, and D). Alternative D is identified as the agency's preferred alternative in the DEIS. Alternative A would involve full implementation of the 2011 Mountain Goat Action Plan, including management of individual mountain goats in visitor use areas according to a continuum of mountain goat-human interactions. Specific management actions could range from hazing to lethal removal of hazardous mountain goats. Alternative B would focus exclusively on the capture of mountain goats within the park and on adjacent Olympic National Forest lands followed by transfer of ownership to Washington Department of Fish & Wildlife (WDFW). Subsequent translocation would be conducted at the discretion of WDFW to other areas, including portions of the Cascade Mountain Range where mountain goats are native and supplementation of the existing population would further mountain goat conservation efforts. Alternative C would use lethal removal to significantly reduce or eliminate mountain goats from the park and adjacent Olympic National Forest lands. Alternative D would utilize a combination of capture and translocation and lethal removal tools to reduce or eliminate mountain goats from the Park. Capture and translocation would occur in most areas prior to direct reduction activities. Once a point of diminishing returns for capture operations is reached, management would continue using lethal removal activities. The U.S. Forest Service and the Washington Department of Fish and Wildlife are cooperating agencies on this plan.

How to Comment: You are encouraged to comment on the draft Mountain Goat Management Plan/EIS online at http://parkplanning.nps.gov/olymgoat. You may also mail or hand-deliver your comments to Olympic National Park, Attn: Mountain Goat Management Plan, 600 East Park Ave., Port Angeles, WA 98362. Written comments will also be accepted during scheduled public meetings discussed above. Comments will not be accepted by email or in any other method than those specified above. Comments in any format (hard copy or electronic) submitted on behalf of others will not be accepted. Before including your address, phone number, email address, or other personal identifying information in your comment, you should be aware that your entire comment—including your personal identifying information—may be made publicly available at any time. While you can ask us in your comment to withhold your personal identifying information from public review, we cannot guarantee that we will be able to do so.

Authority: 42 U.S.C. 4321 et seq.

Dated: July 18, 2017.
Laura E. Joss,
Regional Director, Pacific West.

[FR Doc. 2017-15482 Filed 7-21-17; 8:45 am]

BILLING CODE 4312-52-P